DEPARTMENT OF HEALTH AND HUMAN SERVICES

Health Resources and Services Administration

Meeting of the National Advisory Council on Nurse Education and Practice

AGENCY: Health Resources and Services Administration (HRSA), Department of Health and Human Services (HHS).

ACTION: Notice.

SUMMARY: In accordance with the Federal Advisory Committee Act, this notice announces that the National Advisory Council on Nurse Education and Practice (NACNEP) will hold public meetings for the 2022 calendar year (CY). Information about NACNEP, agendas, and materials for these meetings can be found on the NACNEP website at https://www.hrsa.gov/advisory-committees/nursing/index.html.

DATES: NACNEP meetings will be held on:

• February 2, 2022, 10:00 a.m.-5:00 p.m. Eastern Time (ET) and February 3, 2022, 10:00 a.m.-4:00 p.m. ET;

• May 4, 2022, 10:00 a.m.-5:00 p.m. ET and May 5, 2022, 10:00 a.m.-4:00 p.m. ET;

• August 10, 2022, 10:00 a.m.-5:00 p.m. ET and August 11, 2022, 10:00 a.m.-4:00 p.m. ET; and

• December 7, 2022, 10:00 a.m.-5:00 p.m. ET and December 8, 2022, 10:00 a.m.-4:00 p.m. ET.

ADDRESSES: Meetings may be held in-person, by teleconference, and/or video conferencing. For updates on how the meeting will be held, visit the NACNEP website 30 business days before the date of the meeting, where instructions for joining meetings either in-person or remotely will be posted. In-person NACNEP meetings will be held at 5600 Fishers Lane, Rockville, Maryland 20857. For meeting information updates, go to the NACNEP website meeting page at https://www.hrsa.gov/advisory-committees/nursing/index.html.

FOR FURTHER INFORMATION CONTACT: Camillus Ezeike, Ph.D., JD, LLM, RN, PMP, Designated Federal Officer, NACNEP, Bureau of Health Workforce, Division of Nursing and Public Health, HRSA, 5600 Fishers Lane, 11N-120, Rockville, Maryland 20857; 301-443-2866; or BHWNACNEP@hrsa.gov.

SUPPLEMENTARY INFORMATION: NACNEP provides advice and recommendations to the Secretary of HHS in policy, program development, and other matters of significance concerning the activities under Title VIII of the Public Health Service Act, including the range of issues relating to the nurse workforce, education, and practice improvement. NACNEP also prepares and submits an annual report to the Secretary of HHS and Congress describing its activities, including NACNEP's findings and recommendations concerning activities under Title VIII, as required by the Public Health Service Act.

Since priorities dictate meeting times, be advised that times and agenda items are subject to change. For CY 2022 meetings, agenda items may include, but are not limited to, the nursing workforce, nursing practice improvement, nursing education, and the response to the COVID-19 pandemic. Refer to the NACNEP website listed above for all current and updated information concerning the CY 2022 NACNEP meetings, including draft agendas and meeting materials that will be posted 14 calendar days before the meeting.

Members of the public will have the opportunity to provide comments. Public participants may submit written statements in advance of the scheduled meeting(s). Oral comments will be honored in the order they are requested and may be limited as time allows. Requests to submit a written statement or make oral comments to NACNEP should be sent to Camillus Ezeike using the contact information above at least 5 business days before the meeting.

Individuals who plan to attend meetings that are held in-person and need special assistance or another reasonable accommodation should notify Camillus Ezeike at the address and phone number listed above at least 10 business days before to the meeting(s) they wish to attend. Since all in-person meetings will occur in a federal government building, attendees must go through a security check to enter the building. Non-U.S. citizen attendees must notify HRSA of their planned attendance at least 20 business days prior to the meeting in order to facilitate their entry into the building. All attendees are required to present government-issued identification prior to entry.

Maria G. Button,
Director, Executive Secretariat.

[FR Doc. 2021-27127 Filed 12-14-21; 8:45 am]

BILLING CODE 4165-15-P